DEPARTMENT OF THE INTERIOR

Fish and Wildlife Service

[FWS-R4-R-2009-N0045; 40136-1265-0000-S3]

Egmont Key National Wildlife Refuge, Hillsborough County, FL; Pinellas National Wildlife Refuge, Pinellas County, FL; and Passage Key National Wildlife Refuge, Manatee County, FL

AGENCY: Fish and Wildlife Service, Interior.

ACTION: Notice of availability: draft comprehensive conservation plan and environmental assessment; request for comments.

SUMMARY: We, the U.S. Fish and Wildlife Service (Service), announce the availability of a draft comprehensive conservation plan and environmental assessment (Draft CCP/EA) for Egmont Key, Pinellas, and Passage Key National Wildlife Refuges for public review and comment. These three refuges, known as the Tampa Bay Refuges, are managed as part of the Chassahowitzka National Wildlife Refuge (NWR) Complex. In this Draft CCP/EA, we describe the alternative we propose to use to manage these refuges for the 15 years following approval of the final CCP.

DATES: To ensure consideration, we must receive your written comments by May 26, 2009.

ADDRESSES: Requests for copies of the Draft CCP/EA should be addressed to: Mr. Richard J. Meyers, Assistant Refuge Manager, Chassahowitzka NWR Complex, 9500 Koger Boulevard North, Suite 102, St. Petersburg, FL 33702. The Draft CCP/EA may also be accessed and downloaded from the Service's Internet site: http://southeast.fws.gov/planning.

FOR FURTHER INFORMATION CONTACT: Mr. Richard J. Meyers, telephone: 727/570-5417; e-mail: richard_meyers@fws.gov.

SUPPLEMENTARY INFORMATION:

Introduction

With this notice, we continue the CCP process for Egmont Key, Pinellas, and Passage Key National Wildlife Refuges. We started the process through a notice in the Federal Register on December 3, 2004 (69 FR 70276).

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and the National Environmental Policy Act.

Significant issues addressed in the Draft CCP/EA include: erosion; predatory/exotic/invasive species; human disturbance of wildlife, particularly with respect to illegal access to closed areas; fishing line and trash disposal; threatened and endangered species; bird and other wildlife surveys; environmental education and interpretation issues; and staffing, equipment, and facility needs.

Egmont Key National Wildlife Refuge (NWR) includes 392 acres and was established in 1974 to protect its significant natural, historical, and cultural resources from the impending threats of development. Egmont Key NWR is the only refuge island open to the public and has been traditionally visited for many years as a primary recreation destination. Egmont Key NWR seeks to provide nesting habitat for brown pelicans and other waterbirds, as well as to conserve and protect barrier island habitat and to preserve historical structures of national significance (i.e., historic lighthouse, guard house, gun batteries, and brick roads). Presently, the island's approximately 244 acres of beach and coastal berm support more than 110 species of nesting, migrating, and wintering birds. The island is listed as critical habitat for endangered piping plovers and provides habitat and protection for endangered manatees and sea turtles. Egmont Key NWR has an unusually high population of gopher tortoises and box turtles. Two wildlife sanctuaries, one on the east side of the island and one at the south end of the island, comprise about 97 acres and are closed to public use. Cooperative management agreements between the Service, the U.S. Coast Guard (USCG), and the Florida Department of Environmental Protection entrust daily management activities of Egmont Key NWR to the Florida Park Service (FPS), which manages the island to protect and restore the historic structures and for swimming, sunbathing, shelling, and picnicking.

Pinellas National Wildlife Refuge (NWR) was established in 1951 as a breeding ground for colonial bird species. It contains seven mangrove islands encompassing about 394 acres. The refuge is comprised of Little Bird, Mule, Jackass, Listen, and Whale Island Keys and leases Tarpon and Indian Keys from Pinellas County. A Pinellas County seagrass sanctuary is located around Tarpon and Indian Keys and the use of internal combustion engines within this zone is prohibited to protect seagrass beds. Hundreds of brown pelicans and double-crested cormorants and dozens of herons, egrets, and roseate spoonbills nest within Tarpon and Little Bird Keys. Pinellas NWR provides important mangrove habitat for most long-legged wading species, especially for reddish egrets. All of the mangrove islands of Pinellas NWR are closed to public use year-round to protect migratory birds.

Passage Key National Wildlife Refuge (NWR) was originally designated as a Federal bird reservation by President Roosevelt in 1905, which then consisted of a 60-acre island with a freshwater lake and lush vegetation. However, erosion and hurricanes have virtually destroyed the key, and it is now a meandering sand bar varying in size from 0.5 to 10 acres, depending on weather. In 1970, Passage Key NWR was designated a Wilderness Area. The refuge's objective is to provide habitat for colonial waterbirds. Hundreds of brown pelicans, laughing gulls, black skimmer, and royal terns, and small numbers of herons and egrets, nested annually until the island was destroyed by a hurricane in 2005. The key once hosted the largest royal tern and sandwich tern nesting colonies in the State of Florida. Because of its fragility, small size, and to protect the migratory birds that use the island, it is now closed to public use year-round.

CCP Alternatives, Including Our Proposed Alternative

We developed three alternatives for managing the refuges and chose Alternative B as the proposed alternative. A full description is in the Draft CCP/EA. We summarize each alternative below.

Alternative A—No Action Alternative

Under Alternative A, the no action alternative, management of the refuges would continue at the current level. The refuges would continue their primary mission of providing habitat for wildlife. Wildlife and habitat would be protected through a variety of management tools, such as area closures, predator control, law enforcement, exotic plant control, erosion control, and cleanup of trash. These activities (except for the closures) would be conducted on an opportunistic basis or under the direction and guidance of others.

The refuges would continue to be managed by one full-time assistant refuge manager, with the support of nine staff members 100 miles away at the Chassahowitzka NWR. The refuges would continue to be assisted by numerous partners in opportunistically conducting bird and other wildlife surveys, educating visitors, and encouraging wildlife observation and photography. The Service would continue its cooperative management agreement with the FPS to manage Egmont Key NWR, with the State being responsible for most public recreation and interpretation of natural and cultural resources, and the Service being primarily responsible for the management of all wildlife and habitat. Meetings between the two agencies would continue to be held approximately twice a year.

Under this alternative, the existing level of funding and staffing would be maintained. Accordingly, some positions would not be filled when vacated if funds needed to be reallocated to meet rising costs or new priorities.

Alternative B—Proposed Alternative

Under Alternative B, the proposed alternative, the Service would take more of a leadership role by coordinating and/or directing activities and decisions made by partners that have an impact on the refuges, including coordinating, directing, and conducting bird surveys and Atlantic loggerhead sea turtle surveys; coordinating additional bird surveys and monitoring and conducting research on the gopher tortoises of Egmont Key NWR; and, with partners, identifying, mapping, and protecting State-listed plant species on the refuges. The Service would promote and support increasing the Friends Group to more than 150 members.

Under this alternative, Service staff dedicated to the Tampa Bay Refuges would be increased to four full-time permanent employees and one part-time permanent employee, which would include the addition of a law enforcement officer to increase protection of wildlife, habitat, and visitor safety; a biological technician to conduct bird surveys, predator and exotic species control, and beach renourishment activities; a public use specialist to facilitate and create opportunities for environmental education, interpretation, and wildlife observation and photography; and a part-time administrative assistant. Larger office space to accommodate the increased staff along with the Friends Group would be acquired, as well as facilities for boat storage and use; also, a Visitor Center would be established.

The cooperative agreement with FPS to manage Egmont Key NWR would be enhanced under this alternative by establishing monthly communications and quarterly meetings. Further, the Service would facilitate the transfer of the USCG property on Egmont Key to the Service, and would establish the Service's interest in the Pilots Compound property in the event the occupancy of that property changes. Acquisition of these lands would enable the Service to better conserve, protect, and manage the habitat on Egmont Key.

Alternative C

Under Alternative C, the Service would take on an even greater leadership role at the refuges, enhancing and expanding the activities proposed under Alternative B. The Service staff dedicated to the Tampa Bay Refuges would be increased to seven full-time permanent employees, including two law enforcement officers, one biological technician, one public use specialist, one maintenance person/equipment operator, and an administrative assistant. The Service would promote and support increasing the Friends Group to 200-300 members. Additional equipment and facilities would be acquired to support the staff and increased activities on the refuges.

The additional staff members would allow the refuges to increase the frequency of some monitoring (e.g., piping plover); initiate bird research; routinely monitor and research gopher tortoises; enhance protection of wildlife, habitats, and visitor safety; control exotic and invasive vegetation on a routine basis; and provide educational events on a routine basis, including weekly interpretive tours using concessionaire(s) selected and operating under Service contract.

Under this alternative, the Service would own and manage all of Egmont Key without sharing that responsibility with FPS—an overlay state park managed by FPS would no longer exist, allowing the Service to manage the island in a comprehensive manner.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: March 13, 2009.
Cynthia K. Dohner,
Acting Regional Director.

[FR Doc. E9-9412 Filed 4-23-09; 8:45 am]

BILLING CODE 4310-55-P